DEPARTMENT OF ENERGY

Federal Energy Regulatory Commission

[Project No. 12053-001]

West Valley Hydroelectric Project; Notice of Extension of Time To Submit Scoping Comments

July 6, 2005.

The Commission has extended the scoping comment period for the West Valley Project, to allow time for all interested parties to review the transcripts for the scoping meetings held on June 15, 2005. The deadline for filing scoping comments is now July 25, 2005.

All documents (original and eight copies) should be filed with: Magalie R. Salas, Secretary, Federal Energy Regulatory Commission, 888 First Street, NE., Washington, DC 20426. Scoping comments may be filed electronically via the Internet in lieu of paper. The Commission strongly encourages electronic filings. See 18 CFR 385.2001(a)(1)(iii) and the instructions on the Commission's Web site (http://www.ferc.gov) through the Commission's eLibrary using the “Documents & Filing” link.

Procedural schedule: The application will be processed according to the following schedule. Revisions to the schedule may be made as appropriate.

Major milestone | Target date
Scoping Comments due | July 25, 2005.
Additional Information Request (AIR) | August 2005.
AIR Response due from Applicant | November 2005.
Notice that application is ready for environmental analysis | November 2005.
Comments, Terms and Conditions due | January 2006.
Reply Comments due | March 2006.
Environmental Assessment Issued | April 2006.
Ready for Commission's decision on the application | June 2006.

Magalie R. Salas,
Secretary.

[FR Doc. E5-3699 Filed 7-12-05; 8:45 am]

BILLING CODE 6717-01-P